DEPARTMENT OF EDUCATION

Applications for New Awards; Technical Assistance and Dissemination To Improve Services and Results for Children With Disabilities—Technical Assistance Center on Positive Social, Emotional, and Behavioral Outcomes for Young Children With, and at Risk for, Developmental Delays or Disabilities

AGENCY: Office of Special Education and Rehabilitative Services, Department of Education.

ACTION: Notice.

SUMMARY: The Department of Education is issuing a notice inviting applications for new awards for fiscal year (FY) 2017 for Technical Assistance and Dissemination To Improve Services and Results for Children With Disabilities—Technical Assistance Center on Positive Social, Emotional, and Behavioral Outcomes for Young Children With, and at Risk for, Developmental Delays or Disabilities, Catalog of Federal Domestic Assistance (CFDA) number 84.326B.

DATES:

Applications Available: June 7, 2017.

Deadline for Transmittal of Applications: July 24, 2017.

Deadline for Intergovernmental Review: September 20, 2017.

FOR FURTHER INFORMATION CONTACT: Jennifer Tschantz, U.S. Department of Education, 400 Maryland Avenue SW., Room 5143, Potomac Center Plaza, Washington, DC 20202-5108. Telephone: (202) 245-6282.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(v), this priority is from allowable activities specified in the statute (see sections 663 and 681(d) of the Individuals with Disabilities Education Act (IDEA)).

Absolute Priority: For FY 2017 and any subsequent year in which we make awards from the list of unfunded applications from this competition, this priority is an absolute priority. Under 34 CFR 75.105(c)(3), we consider only applications that meet this priority.

This priority is:

Technical Assistance Center on Positive Social, Emotional, and Behavioral Outcomes for Young Children with, and at Risk for, Developmental Delays or Disabilities.

Background

Young children's social, emotional, and behavioral development has long been recognized as critical for school readiness. Children who are socially competent and exhibit positive behavior during the early childhood years are more successful in school and in life (Jones, Greenberg, & Crowley, 2015). Despite this, early childhood programs that serve infants, toddlers, and preschool children (young children) with, and at risk for, developmental delays or disabilities have struggled to systematically promote positive social and emotional development and reduce challenging behaviors.

Early childhood personnel are often not trained to adequately support young children's social, emotional, and behavioral development (Buettner, Hur, Jeon, & Andrews, 2016). As a result, early childhood personnel frequently report that coping with challenging behavior is their most pressing training need and presents a barrier to including young children with disabilities into programs with their typically developing peers (Hemmeter, Corso, & Cheatham, 2006; Snell et al., 2012). In fact, expulsion rates in preschool are higher than in K-12, and preschool expulsion and suspension rates include stark racial and gender disparities, with young boys of color, including those with disabilities, being suspended and expelled much more frequently than other children (Gilliam, 2005; U.S. Department of Education, 2014; U.S. Department of Education, 2016). In addition, young children with disabilities and their families face significant barriers to accessing inclusive high-quality early childhood programs, despite the research base on the benefits of and the legal foundation for inclusion.¹

¹ Section 632(4)(G) of the IDEA Part C requires that, to the maximum extent appropriate, factoring in each child's routines, needs, and outcomes, early intervention services be made available to all eligible infants and toddlers with disabilities in “natural environments,” including the home, and community settings in which children without disabilities participate. Section 619 of the IDEA Part B requires that to the maximum extent appropriate, all children with disabilities, including preschool children with disabilities, must be educated in the least restrictive environment, and removal from the regular education environment occurs only if the nature and severity of the disability is such that education in regular classes with the use of supplementary aids and services cannot be achieved satisfactorily.

Early childhood multi-tiered systems of support (MTSS) ² focused on social, emotional, and behavioral development implemented in center-based early childhood settings have shown promise in increasing children's social competence and reducing challenging behaviors. Additionally, 30 States identified in their State Systemic Improvement Plans (SSIPs) ³ improving the social and emotional outcomes of infants and toddlers with disabilities under Part C of the IDEA. However, State and local early childhood programs are not typically organized in a manner that systematically supports early childhood personnel in implementing these interventions. State and local programs need guidance and resources on how to implement the framework, especially in home-based and community settings with young children with, and at risk for, developmental delays or disabilities.

² An early childhood MTSS framework (also referred to as response to intervention, or RTI) focused on social, emotional, and behavioral development is a framework used to organize effective practices, interventions, and implementation supports supported by evidence. MTSS strategies are typically organized into three progressively intensive tiers, with specific interventions being executed across primary, secondary and tertiary tiers. The first tier typically includes practices to promote nurturing and responsive caregiving relationships with the child and high-quality supportive environments. The second tier includes explicit instruction in social skills and emotional regulation for children who require more systematic and focused instruction. The third tier is for children with persistent challenging behaviors that are not responsive to interventions at other tiers and involves implementing a plan of intensive, individualized interventions. MTSS intervention strategies should not delay or deny the evaluation of students suspected of having a disability or developmental delay (see OSEP's April 2016 memorandum on the use of RTI in preschool available online: https://www2.ed.gov/policy/speced/guid/idea/memosdcltrs/oseprtipreschoolmemo4-29-16.pdf).

³ The Office of Special Education Programs (OSEP) has redesigned its accountability framework which is designated as Results Driven Accountability (RDA). As part of RDA, OSEP required States to develop, and report in the Annual Performance Report (APR), the State Systemic Improvement Plan (SSIP). The SSIP is a comprehensive, multi-year plan that is focused on improving a State-identified measureable result (SIMR). Thirty State IDEA Part C programs have developed SSIPs that have SIMRs specifically focused on improving the social and emotional outcomes of infants and toddlers with disabilities.

To support young children's social, emotional, and behavioral development and reduce their challenging behaviors, this priority will fund a cooperative agreement to establish and operate a national Technical Assistance Center on Positive Social, Emotional, and Behavioral Outcomes for Young Children with, and at Risk for, Developmental Delays or Disabilities. The center will develop an early childhood MTSS framework, and then support States, early childhood programs, and personnel in implementing this framework focused on improving social, emotional, and behavioral development.

Priority

The purpose of this priority is to fund a cooperative agreement to establish and operate a Technical Assistance Center on Positive Social, Emotional, and Behavioral Outcomes for Young Children with, and at Risk ⁴ for, Developmental Delays or Disabilities to achieve, at a minimum, the following:

⁴ Section 663(b)(1) of the IDEA gives the Department the authority to include a focus on “at-risk” children in this priority: “Funds received under this section shall be used to support activities to improve services provided under this title, including the practices of professionals and others involved in providing such services to children with disabilities, that promote academic achievement and improve results for children with disabilities through . . . implementing effective strategies for addressing inappropriate behavior of students with disabilities in schools, including strategies to prevent children with emotional and behavioral problems from developing emotional disturbances that require the provision of special education and related services.” Under IDEA Part C, States have the option to serve “at-risk infants and toddlers,” defined under section 632(1) as individuals under three years of age who would be at risk of experiencing a substantial developmental delay if early intervention services were not provided to the individual. Additionally, under section 638(5) of the IDEA, States that do not serve “at-risk infants and toddlers” under IDEA Part C may strengthen the statewide system by initiating, expanding, or improving collaborative efforts to at-risk infants and toddlers, including establishing linkages with appropriate public or private community-based organizations, services, and personnel for IDEA child find and related purposes.

(a) An early childhood multi-tiered systems of support (MTSS) framework focused on improving social, emotional, and behavioral development that explicitly integrates practices supported by evidence (as defined in this notice); addresses the needs of infants and toddlers as well as preschoolers; reduces inappropriate and disproportionate discipline practices affecting young children of color; increases inclusion and ongoing participation of young children with disabilities in early childhood settings; promotes family engagement; and is relevant for various early childhood settings (center, home, and community-based);

(b) Improved State and local capacity, including improved skills of personnel, to organize the infrastructure components (including policies, funding, workforce, coaching, data collection and analysis, and interagency leadership) needed to support, scale-up, and sustain the implementation of the early childhood MTSS framework described in paragraph (a) across early childhood programs; and

(c) Increased State and local implementation of the early childhood MTSS framework described in paragraph (a) with early childhood programs and providers using reliable and valid tools and processes for evaluating the fidelity of the implementation of the early childhood MTSS framework focused on social, emotional, and behavioral development; and measuring improvements in young children's social, emotional, and behavioral outcomes, and reductions in behavior incidents, suspensions, and expulsions.

In addition to these programmatic requirements, to be considered for funding under this priority, applicants must meet the application and administrative requirements in this priority, which are:

(a) Demonstrate, in the narrative section of the application under “Significance of the Project,” how the proposed project will—

(1) Address the current and emerging needs of States, early childhood programs, and personnel to improve the social, emotional, and behavioral outcomes of young children with, and at risk for, developmental delays or disabilities through the implementation of an early childhood MTSS framework. To meet this requirement the applicant must—

(i) Present applicable national and State data demonstrating the need to address improved positive social, emotional, and behavioral outcomes in young children with, and at risk for, developmental delays or disability and the needs of States, early childhood programs, and personnel in implementing an early childhood MTSS framework focused on social, emotional, and behavioral development;

(ii) Demonstrate knowledge of current educational issues and policy initiatives related to: Implementing and sustaining an early childhood MTSS framework that promotes positive social, emotional, and behavioral outcomes for young children with, and at risk for, developmental delays or disability across early childhood settings; reducing disproportionate discipline practices and suspension and expulsion; and increasing inclusive opportunities for young children with disabilities;

(iii) Present information about the current level of State and local implementation of:

(A) Early childhood MTSS frameworks focused on social, emotional, and behavioral development;

(B) Activities to reduce disproportionate discipline and suspension and expulsion practices in early childhood programs;

(C) Activities to address challenging behavior as a barrier to inclusive opportunities for young children with disabilities; and

(D) IDEA Part C activities to implement SSIPs targeting their State-identified measurable result (SIMR) on the improvement of social and emotional outcomes;

(2) Improve State and local implementation of an early childhood MTSS framework focused on social, emotional, and behavioral development and indicate the likely magnitude or importance of the improvements.

(b) Demonstrate, in the narrative section of the application under “Quality of the Project Services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients;

(2) Achieve its goals, objectives, and intended outcomes. To meet this requirement, the applicant must provide—

(i) Measurable intended project outcomes; and

(ii) The logic model by which the proposed project will achieve its intended outcomes. A logic model used in connection with this priority communicates how a project will achieve its intended outcomes and provides a framework for both the formative and summative evaluations of the project;

(3) Use a conceptual framework to develop project plans and activities, describing any underlying concepts, assumptions, expectations, beliefs, or theories, as well as the presumed relationships or linkages among these variables, and any empirical support for this framework;

Note: Rather than use the definition of “logic model” in 34 CFR 77.1(c), OSEP uses the definition in paragraph (b)(2)(ii) of these application requirements. This definition, unlike the definition in 34 CFR 77.1(c), differentiates between logic models and conceptual frameworks. The following Web sites provide more information on logic models: www.osepideasthatwork.org/logicModel and www.osepideasthatwork.org/resources-grantees/program-areas/ta-ta/tad-project-logic-model-and-conceptual-framework.

(4) Be based on current research and make use of practices supported by evidence. To meet this requirement, the applicant must describe—

(i) The current research on the effectiveness of an early childhood MTSS framework focused on social, emotional, and behavioral development and related practices supported by evidence;

(ii) The current research about adult learning principles and implementation science or improvement science that will inform the proposed TA; and

(iii) How the proposed project will incorporate current research and practices supported by evidence in the development and delivery of its products and services;

(5) Develop products and provide services that are of high quality and sufficient intensity and duration to achieve the intended outcomes of the proposed project. To address this requirement, the applicant must describe—

(i) How it proposes to identify or develop the knowledge base on effective practices within, and implementation supports for, an early childhood MTSS framework focused on social, emotional, and behavioral development that—

(A) Improves the social, emotional, and behavioral development of infants, toddlers, and preschoolers with, or at risk for, developmental delays and disabilities;

(B) Reduces the use of suspension and expulsion in early childhood programs and addresses the disproportionate discipline practices for young children of color;

(C) Increases the inclusion of young children with disabilities in early childhood programs;

(D) Integrates infant mental health specialists and early childhood mental health consultants in the implementation of an early childhood MTSS framework;

(E) Allows for the collection and use of data to inform decision-making about improving social, emotional, and behavioral outcomes for young children; and

(F) Engages families of young children, including those from diverse cultural and linguistic backgrounds, in the social, emotional, and behavioral development of their children;

(ii) Its proposed approach to universal, general TA,⁵ which must identify the intended recipients of the products and services under this approach and should include activities focused on strengthening an early childhood MTSS framework that promotes young children's social, emotional, and behavioral development including developing and strengthening existing resources, guidance, and tools on:

⁵ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(A) Practices supported by evidence, policies and implementation supports to promote infant, toddlers' and preschoolers' social, emotional, and behavioral outcomes;

(B) Addressing potential disparities in the application or effect of discipline practices for young children of color and reducing suspension and expulsion in programs serving young children with, and at risk for, developmental delays and disabilities;

(C) Using valid and reliable tools to measure change in social, emotional, and behavioral outcomes at the child level and making data-based decisions to inform interventions; and

(D) Collecting data on progress towards social, emotional, and behavioral outcomes and discipline practices at the program level, and how to use these data to make decisions related to practices and policies;

(iii) Its proposed approach to targeted, specialized TA,⁶ which must identify—

⁶ “Targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients that will receive the products and services under this approach;

(B) Its proposed approach to measure the readiness of potential TA recipients to work with the project, assessing, at a minimum, their current infrastructure, available resources, and ability to build capacity at the local level;

(C) The process by which the proposed project will collaborate with OSEP-funded TA centers (see www.osepideasthatwork.org/find-center-or-grant/find-a-center) and other federally funded TA Centers; and

(D) Its proposed approach to increasing the engagement and leadership of State IDEA Part C and Part B, section 619 coordinators to collaborate with other early childhood State leaders to significantly reduce or eliminate suspension and expulsion practices in early childhood programs.

(iv) Its proposed approach to intensive, sustained TA,⁷ which must identify—

⁷ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients that will receive the products and services under this approach;

(B) Its proposed approach to measure the readiness of the recipients to work with the project, including their commitment to the initiative, alignment of the initiative to their needs, current infrastructure, available resources, and ability to build capacity at the local level;

(C) Its proposed plan for assisting State early childhood agencies (including State educational agencies (SEAs) and lead agencies) to build training systems that include professional development based on adult learning principles and coaching;

(D) Its proposed plan for working across the early childhood and health systems (e.g., child care, Head Start, State-funded prekindergarten, Part C and Part B section 619 of IDEA, home visiting, mental health) and with appropriate levels of the systems (e.g., State early learning agencies, regional TA providers, districts and communities, schools and local programs, families) to ensure that there is communication across programs and between each level and that there are systems in place to support the use of an early childhood MTSS framework focused on social, emotional, and behavioral development; and

(E) The process by which the proposed project will collaborate with OSEP-funded centers (see www.osepideasthatwork.org/find-center-or-grant/find-a-center) and other federally funded TA Centers.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the Evaluation Plan,” include an evaluation plan for the project as described in the following paragraphs. The evaluation plan must describe: Measures of progress in implementation, including the criteria for determining the extent to which the project's products and services have met the goals for reaching its target population; measures of intended outcomes or results of the project's activities in order to evaluate those activities; and how well the goals or objectives of the proposed project, as described in its logic model, have been met.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Allocation of key project providers and any consultants and subcontractors, and how these allocations are appropriate and adequate to achieve the project's intended outcomes;

(3) The proposed management plan will ensure that the products and services provided are of high quality, relevant, and useful to recipients;

(4) The proposed project will benefit from a diversity of perspectives, including those of families, various early childhood programs, educators, TA providers, future leaders, researchers, and policy makers, among others, in its development and operation; and

(f) Address the following application requirements. The applicant must—

(1) Include, in Appendix A, a logic model that depicts, at a minimum, the goals, activities, outputs, and intended outcomes of the proposed project.

(2) Include, in Appendix A, a conceptual framework for the project;

(3) Include, in Appendix A, personnel-loading charts and timelines, as applicable, to illustrate the management plan described in the narrative;

(4) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Three trips annually to attend Department briefings, Department-sponsored conferences, and other meetings, as requested by OSEP; and

(iv) A one-day intensive 3+2 review meeting in Washington, DC, during the last half of the second year of the project period;

(5) Include, in the budget, a line item for an annual set-aside of five percent of the grant amount to support emerging needs that are consistent with the proposed project's intended outcomes, as those needs are identified in consultation with and approved by the OSEP project officer.

Note: With approval from the OSEP project officer, the project must reallocate any remaining funds from this annual set-aside no later than the end of the third quarter of each budget period;

(6) Engage doctoral students or post-doctoral fellows to increase the number of future leaders in the field who are knowledgeable about how to implement, scale-up, and sustain an early childhood MTSS framework focused on social, emotional, and behavioral development through engagement with the project; and

(7) Maintain a high-quality Web site, with an easy-to-navigate design, that meets government or industry-recognized standards for accessibility.

Fourth and Fifth Years of the Project

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness and assessment of how well the requirements of the negotiated cooperative agreement have been or are being met by the project; and

(c) The quality, relevance, and usefulness of the project's products and services and the extent to which the project's products and services are aligned with the project's objectives and likely to result in the project achieving its intended outcomes.

References

Buettner, C.K., Hur, E.H., Jeon, L., & Andrews, D.W. (2016, February). What are we teaching the teachers? Child development curricula in US higher education. Child & Youth Care Forum 45(1), 155-175.

Gilliam, W.S. (2005). Prekindergarteners left behind: Expulsion rates in state prekindergarten systems. New York, NY: Foundation for Child Development.

Hemmeter, M.L., Corso, R., & Cheatham, G. (2006, February). Issues in addressing challenging behaviors in young children: A national survey of early childhood educators. Paper presented at the Conference on Research Innovations in Early Intervention. San Diego, CA.

Jones, D.E., Greenberg, M, & Crowley, M. (2015). Early social-emotional functioning and public health: The relationship between kindergarten social competence and future wellness. American Journal of Public Health, 105(11), 2283-2290.

Snell, M.E., Voorhees, M.D., Berlin, R.A., Stanton-Chapman, T.L., Hadden, S., & McCarty, J. (2012). Use of interview and observation to clarify reported practices of Head Start staff concerning problem behavior: for programs and training. Journal of Positive Behavior Interventions, 14, 108-117.

U.S. Department of Education, Office for Civil Rights. (2014). Data snapshot: Early childhood education. Retrieved from: https://www2.ed.gov/about/offices/list/ocr/docs/crdc-early-learning-snapshot.pdf.

U.S. Department of Education, Office for Civil Rights. (2016). 2013-2014 civil rights data collection: A first look. Retrieved from: http://www2.ed.gov/about/offices/list/ocr/docs/2013-14-first-look.pdf.

Definitions

For the purposes of this priority:

Strong theory means a rationale for the proposed process, product, strategy, or practice that includes a logic model (34 CFR 77.1).

Supported by evidence means supported by at least strong theory.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of education (IHEs) only.

II. Award Information

Type of Award: Cooperative agreement.

Estimated Available Funds: The Administration has requested $44,345,000 for the Technical Assistance and Dissemination to Improve Services and Results for Children with Disabilities program for FY 2017, of which we intend to use an estimated $1,100,000 for this competition. The actual level of funding, if any, depends on final congressional action. However, we are inviting applications to allow enough time to complete the grant process if Congress appropriates funds for this program.

Contingent upon the availability of funds and the quality of applications, we may make additional awards in FY 2018 from the list of unfunded applications from this competition.

Maximum Award: We will fund a successful application only up to $1,100,000 for a single budget period of 12 months.

Estimated Number of Awards: 1.

Note: The Department is not bound by any estimates in this notice.

Project Period: Up to 60 months.

III. Eligibility Information

1. Eligible Applicants: SEAs; State lead agencies under Part C of the IDEA; local educational agencies (LEAs), including public charter schools that operate as LEAs under State law; IHEs; other public agencies; private nonprofit organizations; freely associated States and outlying areas; Indian Tribes or Tribal organizations; and for-profit organizations.

2. Cost Sharing or Matching: This program does not require cost sharing or matching.

3. Eligible Subgrantees: (a) Under 34 CFR 75.708(b) and (c) a grantee may award subgrants—to directly carry out project activities described in its application—to the following types of entities: IHEs and private nonprofit organizations suitable to carry out the activities proposed in the application.

(b) The grantee may award subgrants to entities it has identified in an approved application.

4. Other General Requirements: (a) Recipients of funding under this competition must make positive efforts to employ and advance in employment qualified individuals with disabilities (see section 606 of IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Address To Request Application Package: You can obtain an application package via the internet or from the Education Publications Center (ED Pubs). To obtain a copy via the internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this competition as follows: CFDA number 84.326B.

Individuals with disabilities can obtain a copy of the application package in an accessible format (e.g., braille, large print, audiotape, or compact disc) by contacting the person or team listed under Accessible Format in section VII of this notice.

2. Content and Form of Application Submission: Requirements concerning the content and form of an application, together with the forms you must submit, are in the application package for this competition.

Page Limit: The application narrative (Part III of the application) is where you, the applicant, address the selection criteria that reviewers use to evaluate your application. We recommend that you—(1) limit Part III to no more than 70 pages, and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of Part III, the application narrative, including all text in charts, tables, figures, graphs, and screen shots.

3. Submission Dates and Times:

Applications Available: June 7, 2017.

Deadline for Transmittal of Applications: July 24, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 20, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

We are a participating partner in the Governmentwide Grants.gov Apply site. Technical Assistance Center on Positive Social, Emotional, and Behavioral Outcomes for Young Children with, and at Risk for, Developmental Delays or Disabilities competition, CFDA number 84.326B, is included in this project. We request your participation in Grants.gov.

If you choose to submit your application electronically, use the Governmentwide Grants.gov Apply site at www.Grants.gov. Through this site, you will be able to download a copy of the application package, complete it offline, and then upload and submit your application.

You may access the electronic grant application for the Technical Assistance Center on Positive Social, Emotional, and Behavioral Outcomes for Young Children with, and at Risk for, Developmental Delays or Disabilities competition at www.Grants.gov. You must search for the downloadable application package for this competition by the CFDA number. Do not include the CFDA number's alpha suffix in your search (e.g., search for 84.326, not 84.326B).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you submit your application in paper format.

• If you submit your application electronically, submit all documents electronically, including all information you typically provide on the following forms: the Application for Federal Assistance (SF 424), the Department of Education Supplemental Information for SF 424, Budget Information—Non-Construction Programs (ED 524), and all necessary assurances and certifications.

• If you submit your application electronically, upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Submission of Paper Applications by Mail

If you submit your application by mail (through the U.S. Postal Service or a commercial carrier), mail the original and two copies of your application, on or before the application deadline date, to the Department at the following address:

U.S. Department of Education, Application Control Center, Attention: (CFDA Number 84.326B), LBJ Basement Level 1, 400 Maryland Avenue SW., Washington, DC 20202-4260

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you submit your applications in paper format by hand delivery, deliver the original and two copies of your application by hand, on or before the application deadline date, to the Department at the following address:

U.S. Department of Education, Application Control Center, Attention: (CFDA Number 84.326B), 550 12th Street SW., Room 7039, Potomac Center Plaza, Washington, DC 20202-4260

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. For purposes of this priority, the Center will use these measures, which focus on the extent to which projects provide high-quality products and services, the relevance of project products and services to educational and early intervention policy and practice, and the use of products and services to improve educational and early intervention policy and practice.

Projects funded under this competition are required to submit data on these measures as directed by OSEP.

Grantees will be required to report information on their project's performance in annual and final performance reports to the Department (34 CFR 75.590).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Ruth E. Ryder,
Deputy Director, Office of Special Education Programs, delegated the duties of the Assistant Secretary for Special Education and Rehabilitative Services.

[FR Doc. 2017-11842 Filed 6-6-17; 8:45 am]

BILLING CODE 4000-01-P